FEDERAL COMMUNICATIONS COMMISSION

[DA 08-2070; WT Docket No. 08-165]

Wireless Telecommunications Bureau Grants Extension of Time To File Comments on CTIA's Petition for Declaratory Ruling Regarding Wireless Facilities Siting

AGENCY: Federal Communications Commission.

ACTION: Notice.

SUMMARY: In this document, the Federal Communications Commission (Commission) finds that a short period of additional time will permit all interested parties to file more thorough and thoughtful comments on a July 11, 2008 petition for Declaratory Ruling (Petition) filed by CTIA—The Wireless Association (CTIA). In its Petition, CTIA asked the Commission to clarify the provisions of section 332(c)(7)(B)(v) of the Communications Act, as amended, that CTIA contends are ambiguous and that have been unreasonably interpreted. CTIA further requested that the Commission preempt local ordinances and state laws that it believes violate section 253(a) of the Communications Act, as amended. The Commission states that an extension of time for comments and reply comments should lead to a more complete and better-informed record, and thus, it finds that good cause exists to provide all parties an extension of time for filing comments and reply comments on the Petition.

DATES: Interested parties may file comments on or before September 29, 2008, and reply comments on or before October 14, 2008.

ADDRESSES: You may submit comments, identified by WT Docket No. 08-165, by any of the following methods:

• Federal eRulemaking Portal: http://www.regulations.gov. Follow the instructions for submitting comments.

• Federal Communications Commission's Web Site: http://www.fcc.gov/cgb/ecfs/. Follow the instructions for submitting comments.

• Mail: Filings can be sent by hand or messenger delivery, by commercial overnight courier, or by first-class or overnight U.S. Postal Service mail (although we continue to experience delays in receiving U.S. Postal Service mail). All filings must be addressed to the Commission's Secretary, Office of the Secretary, Federal Communications Commission.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Michael Rowan, Spectrum and Competition Policy Division, Wireless Telecommunications Bureau at (202) 418-1883 or Michael.Rowan@fcc.gov.

SUPPLEMENTARY INFORMATION: This is a summary of the Commission's public notice released on September 10, 2008. The full text of the public notice is available for public inspection and copying during business hours in the FCC Reference Information Center, Portals II, 445 12th Street, SW., Room CY-A257, Washington, DC 20554. It also may be purchased from the Commission's duplicating contractor at Portals II, 445 12th Street, SW., Room CY-B402, Washington, DC 20554; the contractor's Web site, http://www.bcpiweb.com; or by calling (800) 378-3160, facsimile (202) 488-5563, or e-mail FCC@BCPIWEB.com. Copies of the public notice also may be obtained via the Commission's Electronic Comment Filing System (ECFS) by entering the docket number, WT Docket No. 08-165. Additionally, the complete item is available on the Federal Communications Commission's Web site at http://www.fcc.gov.

On July 11, 2008, CTIA filed its Petition requesting that the Commission issue a Declaratory Ruling clarifying provisions of the Communications Act of 1934, as amended (Communications Act) regarding state and local review of wireless facility siting applications.¹ Specifically, CTIA asks the Commission to “resolve open questions regarding the time frames in which zoning authorities must act on siting requests, the importance of competitive entry by multiple providers in each market, and the impropriety of unduly burdensome requirements imposed on wireless providers but not on other entities.” ² On August 14, 2008, the Commission established a pleading cycle for comments on the CTIA Petition.³ The current deadline for comments is September 15, 2008, and the current deadline for reply comments is September 29, 2008.

¹ In the Matter of Petition for Declaratory Ruling to Clarify Provisions of section 332(c)(7)(B) to Ensure Timely Siting Review and to Preempt under section 253 State and Local Ordinances that Classify All Wireless Siting Proposals as Requiring a Variance, Petition for Declaratory Ruling, WT Docket No. 08-165, filed July 11, 2008 (Petition).

² Id. at ii.

³ See Wireless Telecommunications Bureau Seeks Comment on Petition for Declaratory Ruling by CTIA—The Wireless Association to Clarify Provisions of Section 332(c)(7)(B) to Ensure Timely Siting Review and to Preempt Under Section 253 State and Local Ordinances that Classify All Wireless Siting Proposals as Requiring a Variance, Public Notice, 23 FCC Rcd 12198 (2008).

On August 22, 2008, Montgomery County, Maryland (Montgomery County) filed a Motion for Extension of Time. On August 25, 2008, the National Association of Telecommunications Officers and Advisors (NATOA), the National Association of Counties, the National League of Cities, and the United States Conference of Mayors (collectively Associations) filed a motion to extend the time for filing comments and reply comments. On August 26, 2008, the Greater Metro Telecommunications Consortium and Rainier Communications Commission filed an amended motion to extend the time for filing comments and reply comments. Each of the motions requests a comment period of 90 days and a reply comment period of 45 days. On August 26, 2008, CTIA filed an Opposition to Motions for Extension of Time that addresses these three motions. On August 29, 2008, Montgomery County, Maryland filed a Reply to CTIA's opposition to the motions for extension of time. On September 8, 2008, the cities of Bar Harbor Islands, Cutler Bay, Hollywood, Homestead, Miramar, Sunrise, and Weston (collectively Florida Cities) filed a Motion for Extension of Time seeking an additional 30 days to file their comments. Also on September 8, 2008, the Airports Council International-North America (ACI-NA) filed a motion to extend the time for filing comments and reply comments by 30 days and 15 days, respectively.

In support of their motions, Montgomery County and the Associations note that NATOA's annual conference takes place immediately after initial comments are due, and that many attendees are involved in the processes that the petition addresses. In addition, the Associations explain that the current deadline does not allow enough time for them to complete an analysis and provide comments on the complex legal and factual issues raised by CTIA's Petition. The Associations also indicate that they need additional time to identify local governments that the Petition alleges to have engaged in certain conduct and to address those allegations. Montgomery County further states that given that the petition rests on factual assertions, and that the petition seeks to change how sections 332 and 253 of the Communications Act ⁴ have been applied for the last twelve years, it is important to allow sufficient time for local governments to provide reasonable responses. Florida Cities ask for an extension of time to file their comments due to the effects that Hurricane Ike is likely to have on them. ACI-NA also contends that granting an extension will not harm or otherwise prejudice the Commission or any interested party. In its Opposition, CTIA asserts that the comment dates provide adequate time for parties, and that the motions do not provide an adequate rationale for an extension.

⁴ 47 U.S.C. 332, 253.

The Commission notes its policy that extensions of time shall not be routinely granted. The Commission finds that the moving parties have not established good cause for the full extensions that they request, but it states that a short period of additional time will permit all interested parties to file more thorough and thoughtful comments, which should lead to a more complete and better-informed record. The Commission thus finds that good cause exists to provide all parties an extension of time from September 15, 2008 to September 29, 2008 for filing comments in this proceeding and from September 30, 2008 to October 14, 2008 for filing reply comments in this proceeding.

This proceeding has been designated as a “permit-but-disclose” proceeding in accordance with the Commission's ex parte rules.⁵ Parties making oral ex parte presentations in this proceeding are reminded that memoranda summarizing the presentation must contain the presentation's substance and not merely list the subjects discussed.⁶ More than a one-or two-sentence description of the views and arguments presented is generally required.⁷

⁵ See 47 CFR 1.1200(a), 1.1206.

⁶ See Commission Emphasizes the Public's Responsibilities in Permit-But-Disclose Proceedings, Public Notice, 15 FCC Rcd 19945 (2000).

⁷ See 47 CFR 1.1206(b)(2). Other rules pertaining to oral and written presentations are also set forth in 1.1206(b). See 47 CFR 1.1206(b).

Pursuant to §§ 1.415 and 1.419 of the Commission's rules, 47 CFR 1.415 and 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (May 1, 1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

People with Disabilities: To request materials in accessible formats for people with disabilities (braille, large print, electronic files, audio format), send an e-mail to fcc504@fcc.gov or call the Consumer & Governmental Affairs Bureau at 202-418-0530 (voice), 202-418-0432 (tty).

Parties shall send one copy of their comments and reply comments to Best Copy and Printing, Inc., Portals II, 445 12th Street, SW., Room CY-B402, Washington, DC 20554, (800) 378-3160, e-mail FCC@BCPIWEB.com. Comments filed in response to this public notice will be available for public inspection and copying during business hours in the FCC Reference Information Center, Portals II, 445 12th Street SW., Room CY-A257, Washington, DC 20554, and via the Commission's Electronic Comment Filing System (ECFS) by entering the docket number, WT Docket No. 08-165. The comments may also be purchased from Best Copy and Printing, Inc., telephone (800) 378-3160, facsimile (202) 488-5563, or e-mail FCC@BCPIWEB.com.

Federal Communications Commission.
James D. Schlichting,
Acting Chief, Wireless Telecommunications Bureau.

[FR Doc. E8-22311 Filed 9-22-08; 8:45 am]

BILLING CODE 6712-01-P